DEPARTMENT OF LABOR

Employment and Training Administration

[TA-W-38,174]

Paper, Calmenson & Company, Blades Division, Bucyrus, OH; Notice of Affirmative Determination Regarding Application for Reconsideration

By letter of January 4, 2001, the United Steelworkers of America (USWA), District 1/Sub-District 3, requested administrative reconsideration of the Department's negative determination regarding eligibility to apply for Trade Adjustment Assistance (TAA), applicable to workers and former workers of the subject firm. The denial notice was signed on December 5, 2000, and was published in the Federal Register on December 21, 2000 (65 FR 80456).

Information provided by the USWA reveals that further investigation is warranted regarding imports of articles like or directly competitive with those produced by workers at the Bucyrus, Ohio plant.

Conclusion

After careful review of the application, I conclude that the claim is of sufficient weight to justify reconsideration of the Department of Labor's prior decision. The application is, therefore, granted.

Signed in Washington, DC, this 20th day of February, 2001.
Edward A. Tomchick,
Director, Division of Trade Adjustment Assistance.

[FR Doc. 01-5086 Filed 3-1-01; 8:45 am]

BILLING CODE 4510-30-M